DEPARTMENT OF TRANSPORTATION

Federal Motor Carrier Safety Administration

[Docket No. FMCSA-2024-0101]

Parts and Accessories Necessary for Safe Operation; Application for an Exemption From K & L Trucking, USDOT #193158

AGENCY: Federal Motor Carrier Safety Administration (FMCSA), Department of Transportation (DOT).

ACTION: Notice of final disposition; grant of exemption.

SUMMARY: The Federal Motor Carrier Safety Administration (FMCSA) announces its decision to renew K & L Trucking, Inc.'s (K & L, USDOT #193158) application for a limited 5-year exemption to allow the company to secure large metal coils to its trailers using a cargo securement system that differs from that required by the Federal Motor Carrier Safety Regulations (FMCSRs). The Agency has determined that granting the exemption would likely achieve a level of safety equivalent to or greater than the level of safety provided by the regulation.

DATES: This exemption is effective April 21, 2025 and ending April 21, 2030.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov.

I. Viewing Comments and Documents

To view any documents mentioned as being available in the docket, go to https://www.regulations.gov/docket/FMCSA-2024-0101/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved absent such exemption, pursuant to 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Section 393.120(c) of the FMCSRs requires that metal coils that weigh more than 5,000 pounds (either individually or grouped together) and transported with eyes crosswise must be secured using (1) a means (e.g., timbers, chocks or wedges, a cradle, etc.) to prevent the coil from rolling and to support the coil off the deck, (2) at least one tiedown through its eye restricting against forward motion, and (3) at least one tiedown through its eye restricting against rearward motion. Attaching tiedowns diagonally through the eye of a coil to form an X-pattern when viewed from above the vehicle is prohibited.

IV. Application for Exemption

K & L, a transporter of metal coils, applied for an exemption from 49 CFR 393.120(c) in 2020 to allow the carrier to secure large metal coils to its trailers using a cargo securement system that differs from that required by the FMCSRs. FMCSA granted the exemption for a period of 5 years, effective until December 4, 2025 (85 FR 78406). K & L's present application to renew and expand its original exemption was described in detail in a Federal Register notice published on April 15, 2024 (89 FR 26210). The description will not be repeated here as the facts have not changed.

V. Public Comments

The Agency received one comment on the application. AWM commented that K & L did not provide information on whether Kevlar straps are equivalent in strength to Nylon straps and various coil grade chains. AWM asked “what testing has been performed to substantiate that Kevlar is suitable for stretching and flexing while a vehicle is in transit that is subject to multiple braking actions, uncontrolled storage and exposure to the elements?” AWM stated that the manufacturer of the straps should “submit evidence of the straps abilities per Par 393.7” and have them incorporated by reference in 49 CFR 393.108.

VI. FMCSA Safety Analysis

FMCSA has evaluated K & L's application and the public comment and grants the request to renew and modify the exemption for a 5-year period. FMCSA is not aware of any evidence showing that K & L's operations under the terms and conditions of the original exemption have resulted in any degradation in safety. Due to the limited scope, terms, conditions, and restrictions of the exemption and the existing regulatory requirements that remain in place, FMCSA has determined that the exemption will likely achieve a level of safety that is equivalent to the level of safety that would be obtained absent the exemption.

In response to AWM's comment, FMCSA notes that elongation in a material, also known as elasticity or stretch, occurs when tie-downs such as welded steel chains, nylon, or nylon-Kevlar materials are used to secure cargo and subjected to tensile forces. Each of the tie down industry associations publishes standards for equipment manufacturers and test methods to evaluate if the equipment, as manufactured, meets the performance standards set by the industry. In the case of welded steel chain links, used to secure cargo of different types, the National Association of Chain Manufacturers (NACM) publishes welded steel chain specifications for manufacturers of welded steel chain. ¹ Similarly, the Web Sling and Tie Down Association (WSTD) publishes specifications and performance metrics for different types of non-metallic web slings.² Based on published WSTD data, stretch or elongation in nylon is comparable to that of welded chain links.

¹ https://www.nacm.info/specifications/welded-chain-specifications/.

² www.wstda.com.

The Agency further notes that both nylon and synthetic web sling are incorporated in 49 CFR 393.7(b)(20) and 393.7(b)(22). The core material in the 2-ply nylon material with Kevlar protective coating used by K & L is nylon, which is incorporated by reference in 49 CFR 393.7(b)(20).

VII. Exemption Decision

A. Grant of Exemption

The Agency hereby grants the exemption for a 5-year period, beginning April 21, 2025 and ending April 21, 2030. This exemption will replace the current exemption granted to K & L. Under this exemption, K & L is allowed to use an alternative securement system consisting of a customized metal carrier affixed to the bed of its trailers and the use of a single large cargo securement strap through the eye of the metal coil. The coil carriers weigh 2,500 pounds each and are attached to the bed with sixteen ⅝ inch, Grade 8 bolts with a working load limit of 27,611 pounds each. A large single, two-ply, nylon-Kevlar tiedown strap with a working load limit of 44,800 pounds is placed through the eye of the coil to secure the coil to the metal carrier for the limited transport at no more than 40 miles per hour to and from the following locations in Delta, Ohio 43515: North Star Blue Scope Steel, LLC, located at 6767 County Road 9 and County Road 10; Fulton County Processing, located at 7800 Ohio State Route 109; Worthington Industries, located at 6303 County Road 10; Nova Tube & Steel located at 8641 County Road H; and Bluescope Recycling & Materials, located at 7300 Ohio State Route 109.

B. Terms and Conditions

1. This exemption applies only to transport of steel coils when secured using K & L's securement system and transported by K & L under the terms herein.

2. K & L shall inspect the securement system for any loose attachments or for any relative movement of the metal coil carrier and the deck before each trip.

3. K & L shall inspect the synthetic cargo securement straps (SKU TT2-908-T2) used for delamination or visible wear due to abrasion or excessive fading due to exposure to the elements. K & L shall not use any securement straps subject to this exemption that exhibit any visible damage due to excessive wear or excessive fading due to ultraviolet exposure.

4. K & L must replace each nylon-Kevlar strap every 6 months when securing steel coils per this exemption. This replacement must be done irrespective of the material damage mentioned in the previous condition.

5. K & L drivers must have a copy of this Federal Register notice in their possession while operating under the terms of the exemption. The exemption document must be presented to law enforcement officials upon request.

6. K & L shall keep records of any incidents involving their trucks when carrying steel coils as secured per this exemption and submit any on-site or on-road incidents, such as damages to the carrier during loading or crashes during transit, and any crashes involving loss of the metal coil from the trailer, to MCPSV@dot.gov on an annual basis. The report is due by the end of the year beginning from the effective date of this exemption.

VIII. Preemption

In accordance with 49 U.S.C. 31315(d), as implemented by 49 CFR 381.600, during the period this exemption is in effect, no State shall enforce any law or regulation applicable to interstate commerce that conflicts with or is inconsistent with this exemption. States may, but are not required to, adopt the same exemption with respect to operations in intrastate commerce.

IV. Termination

Interested parties possessing information that would demonstrate that the cargo securement system used by K & L to secure metal coils is not achieving the requisite statutory level of safety should immediately notify FMCSA by email at MCPSV@dot.gov.

The exemption will be rescinded if: (1) K & L fails to comply with the terms and conditions of the exemption; (2) the exemption has resulted in a lower level of safety than was maintained before it was granted; or (3) continuation of the exemption would not be consistent with the goals and objectives of 49 U.S.C. 31136(e) and 31315(b).

Sue Lawless,
Assistant Administrator.

[FR Doc. 2025-06820 Filed 4-18-25; 8:45 am]

BILLING CODE 4910-EX-P